DEPARTMENT OF HOMELAND SECURITY

Federal Emergency Management Agency

44 CFR Part 67

[Docket No. FEMA-B-7720]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Allen County, Indiana, and Incorporated Areas
Aboite Creek | Approximately 350 feet downstream of Powell Road | +756 | +755 | Allen County (Unincorporated Areas).
| Approximately 2,000 feet upstream of Powell Road | +756 | +755
Brown Ditch | At the confluence with Adam Schlemmer-Baker Ditch | +793 | +792 | Allen County (Unincorporated Areas).
| Approximately 650 feet upstream of the confluence with Adam Schlemmer-Baker Ditch | +793 | +792
Bullerman Branch | Approximately 775 feet upstream of the confluence with Bullerman Ditch | +777 | +778 | Allen County (Unincorporated Areas), City of Fort Wayne.
| Approximately 600 feet downstream of Stellhorn Road | +777 | +778
Durnell Ditch | Approximately 1,056 feet upstream of Interstate Highway 69 | +787 | +786 | City of Fort Wayne.
| Approximately 615 feet downstream of State Highway 14/Illinois Road | +808 | +807
Junk Ditch | At the confluence with St. Mary's River | +758 | +759 | City of Fort Wayne.
| Approximately 150 feet upstream of Taylor Street | +758 | +759
Lawrence Branch | At the confluence with Flaugh Ditch | +775 | +776 | City of Fort Wayne.
| Approximately 150 feet upstream of the confluence with Flaugh Ditch | +775 | +776
Martin Ditch | At the confluence with MaumeeRiver | +749 | +748 | City of New Haven.
| Approximately 2,900 feet upstream of confluence with Maumee River | +749 | +748
St. Mary's River | Just downstream of Bostick Road | +771 | +772 | Allen County (Unincorporated Areas).
| At South County Line Road East | +776 | +778
Willow Creek Branch No. 7 | At the confluence with WillowCreek | +825 | +824 | Allen County (Unincorporated Areas).
| Approximately 1,500 feet downstream of Woods Road | +825 | +824
* National Geodetic Vertical Datum.
+ North American Vertical Datum.
# Depth in feet above ground.
ADDRESSES
City of Fort Wayne
Maps are available for inspection at 1 Main Street, Room 630, Fort Wayne, IN 46802.
Send comments to The Honorable Graham Richard, Mayor, City of Fort Wayne, 1 Main Street, Fort Wayne, IN 46802.
City of New Haven
Maps are available for inspection at 815 Lincoln Highway East, New Haven, IN 46774.
Send comments to The Honorable Terry E. McDonald, Mayor, City of New Haven, 815 Lincoln Highway East, New Haven, IN 46774.
Allen County (Unincorporated Areas)
Maps are available for inspection at 1 East Main Street, Room 630, Fort Wayne, IN 46802.
Send comments to Linda K. Bloom, President, County Commissioners, 1 East Main Street, Room 200, Fort Wayne, IN 46802.
Pearl River County, Mississippi, and Incorporated Areas
East Hobolochitto Creek | Just upstream of West Union Road | None | +86 | Pearl River County (Unincorporated Areas).
| Approximately 420 feet upstream of Savannah Millard Road | None | +147
Jumpoff Creek | At the confluence with East Hobolochitto Creek | None | +162 | Pearl River County (Unincorporated Areas).
| Just upstream of Norfolk Southern Railroad | None | +238
Juniper Creek | At the confluence with East Hobolochitto Creek | None | +166 | Pearl River County (Unincorporated Areas).
| Approximately 1,900 feet upstream of Dupont-Harris Road | None | +252
Long Branch | At the confluence with West Hobolochitto Creek | None | +72 | Pearl River County (Unincorporated Areas).
| Approximately 6,900 feet upstream of Nelle Burkes Road | None | +161
Mill Creek No. 1 | At the Pearl River-Hanconk County Boundary | None | +79 | Pearl River County (Unincorporated Areas).
| Approximately 4,800 feet upstream of Mill Creek 2 Tributary 4 | None | +175
No. 3 | Approximately 170 feet upstream of Boley Bypass Road | None | +54 | Pearl River County (Unincorporated Areas).
| Approximately 14,600 feet upstream of Highway 11 | None | +180
No. 4 | Just upstream of the dam | None | +91 | Pearl River County (Unincorporated Areas).
| Approximately 6,200 feet upstream of Rock Ranch Road | None | +143
West Hobolochitto Creek | Approximately 600 feet downstream of Henleyfield-McNeill Road | None | +98 | Pearl River County (Unincorporated Areas).
| Approximately 200 feet upstream of Highway 26 | +133 | +130
White Sand Creek | At the confluence with West Hobolochitto Creek | None | +129 | Pearl River County (Unincorporated Areas).
| Approximately 4,050 feet upstream of White Sand Creek Tributary 7 | None | +247
Wolf River | Approximately 16,100 feet downstream of McNeill-McHenryRoad | None | +120 | Pearl River County (Unincorporated Areas).
| Approximately 2,500 feet upstream of Highway 11 | None | +241
* National Geodetic Vertical Datum.
+ North American Vertical Datum.
# Depth in feet above ground.
ADDRESSES
Pearl River County (Unincorporated Areas)
Maps are available for inspection at Department of Planning and Development, 167 Savannah-Millard Road, Poplarville, MS 39470.
Send comments to Ms. Bettye Stockstill, President, Board of Supervisors, Pearl River County Courthouse, 207 West Pearl Street, Poplarville, MS 39470.
Smith County, Texas, and Incorporated Areas
Blackhawk Creek | Approximately 2000 feet downstream of intersection with Blackjack Rd | None | +332 | City of Whitehouse (Smith County), Unincorporated Areas.
| Approximately 1750 feet upstream of intersection with FM 346 E | None | +483
Tributary 1 | Confluence with Blackhawk Creek | None | +383 | City of Whitehouse.
| Approximately 250 feet upstream of Hagan Rd intersection | None | +419
Tributary 2 | Confluence with Blackhawk Creek | None | +418 | City of Whitehouse.
| Approximately 2000 feet upstream of interstection with CR 2319 | None | +460
Hill Creek | Approximately 3500 feet from intersection with Troup Highway | None | +379 | City of Whitehouse (Smith County), Unincorporated Areas.
| Approximately 2500 feet downstream of intersection with Bascom Rd | None | +465
Horsepen Branch | Approximately 8000 feet downstream of confluence with Kickapoo Creek | None | +392 | City of Troup.
| Approximately 1100 feet downstream of confluence with Kickapoo Creek | None | +411
Mud Creek | Approximately 7000 feet downstream from intersection with Old Tyler Rd. (County Line) | None | +315 | (Smith County) Unincorporated Areas.
| Approximately 140 feet upstream from intersection with TroupHighway | None | +333
Prairie Creek South | Approximately 1750 feet downstream of intersection with Old Omen Rd | None | +382 | (Smith County) Unincorporated Areas, New Chapel Hill.
| 1750 feet upstream of intersection with Henderson Hwy | None | +422
Prairie Creek Tributary 1 | Confluence with Prairie Creek South | None | +391 | (Smith County) Unincorporated Areas.
| 1500 feet upstream from Dam | None | +451
* National Geodetic Vertical Datum.
+ North American Vertical Datum.
# Depth in feet above ground.
ADDRESSES
City of Troup
Maps are available for inspection at 100 N. Broadway, Tyler, TX 75702.
Send comments to The Honorable John Whitsell, Mayor, City of Troup, PO Box 637, Troup, TX 75789.
City of Whitehouse
Maps are available for inspection at 100 N. Broadway, Tyler, TX 75702.
Send comments to The Honorable Jake Jacobson, Mayor, City of Whitehouse, PO Box 776, Whitehouse, TX 75791.
New Chapel Hill
Maps are available for inspection at 100 N. Broadway, Tyler, TX 75702.
Send comments to The Honorable Robert Whitaker, Mayor, 14475 State Hwy 64 E, Tyler, TX 75707.
Unincorporated Areas of Smith County
Maps are available for inspection at 100 N. Broadway, Tyler, TX 75702.
Send comments to The Honorable Joel P. Baker, County Judge, Smith County, 200 E. Ferguson, Ste. 100, Tyler, TX 75702.

(Catalog of Federal Domestic Assistance No. 97.022, “Flood Insurance.”)

Dated: June 18, 2007.
David I. Maurstad,
Federal Insurance Administrator of the National Flood Insurance Program, Federal Emergency Management Agency, Department of Homeland Security.

[FR Doc. E7-12692 Filed 6-29-07; 8:45 am]

BILLING CODE 9110-12-P